DEPARTMENT OF THE INTERIOR

Bureau of Land Management

[NM-940-08-1420-BJ]

Notice of Filing of Plats of Survey; New Mexico

AGENCY: Bureau of Land Management, Interior.

ACTION: Notice.

SUMMARY: The plats of survey described below are scheduled to be officially filed in the New Mexico State Office, Bureau of Land Management, Santa Fe, New Mexico, thirty (30) calendar days from the date of this publication.

SUPPLEMENTARY INFORMATION:

New Mexico Principal Meridian, New Mexico

The plat representing the dependent resurvey and Metes-and-Bounds survey for section 35 for T. 11 N., R. 16 W., accepted January 31, 2008, for Group 1061 NM.

The plat representing the dependent resurvey and subdivision of sections for T. 10 N., R. 1 W., accepted January 17, 2008, for Group 1052 NM.

The plat representing the dependent resurvey for T. 9 N., R. 1 W., accepted January 17, 2008, for Group 1052 NM.

The plat in nineteen sheets representing the dependent resurvey and subdivision of sections and meanders of the San Juan River for T. 29 N., R. 16 W., accepted February 19, 2008, for Group 1037 NM.

The plat representing the dependent resurvey for T. 11 N., R. 1 W., accepted January 17, 2008, for Group 1052 NM.

The plat in three sheets representing the dependent resurvey, corrective resurvey and survey for T. 9 N., R. 17 E., accepted January 29, 2008, for Group 907 NM.

The plat representing the dependent resurvey and survey, for T. 21 N., R. 1 W., accepted January 31, 2008, for Group 1064 NM.

The plat in two sheets representing the Toadlena School Tract, for T. 23 N., R. 19 W., accepted February 19, 2008, for Group 1025 NM.

The plat representing the dependent resurvey and survey, for T. 17 S., R. 25 E., accepted April 2, 2008, for Group 1074 NM.

The plat in three sheets representing the dependent resurvey, subdivision of sections and metes-and-bounds survey for T. 15 N., R. 17 W., accepted January 24, 2008, for Group 1054 NM.

The plat in four sheets representing a metes-and-bounds survey for the Town of Alameda Grant accepted March 12, 2008, for Group 1003 NM.

The plat in two sheets representing the dependent resurvey and survey, T. 12 N., R. 7 E., accepted April 24, 2008, for Group 1046 NM.

Indian Meridian, Oklahoma

The supplemental plat representing T. 10 N., R. 23 E., accepted January 31, 2008, OK.

The plat representing the dependent resurvey and subdivision for T. 2 S., R. 16 W., accepted January 17, 2008, for Group 149 OK.

The plat representing the dependent resurvey and subdivision of section 34 for T. 8 N., R. 10 W., accepted February 19, 2008, for Group 170 OK.

The plat representing the dependent resurvey and subdivision of section 13 for T. 1 S., R. 2 W., accepted January 16, 2008, for Group 171 OK.

The supplemental plat representing T. 10 N., R. 27 E., accepted March 12, 2008, in two sheets for OK.

The plat representing the dependent resurvey for T. 2 N., R. 11 W., accepted April 4, 2008, for Group 163 OK.

The supplemental plat in two sheets representing T. 11 N., R. 27 E accepted March 12, 2008, OK.

The plat representing the dependent resurvey and survey, for T. 14 N., R. 13 W., accepted April 2, 2008, for Group 153 OK.

The supplemental plat representing T. 10 N., R. 23 E. accepted April 24, 2008, OK.

Texas

The plat representing the Kickapoo Traditional tribe of Texas Reservation Boundary, Maverick County, Texas, metes and bounds Survey accepted March 10, 2008 for Group 9 TX.

If a protest against a survey, as shown on any of the above plats is received prior to the date of official filing, the filing will be stayed pending consideration of the protest. A plat will not be officially filed until the day after all protests have been dismissed.

A person or party who wishes to protest against any of these surveys must file a written protest with the New Mexico State Director, Bureau of Land Management, stating that they wish to protest.

A statement of reasons for a protest may be filed with the notice of protest to the State Director, or the statement of reasons must be filed with the State Director within thirty days after the protest is filed.

FOR FURTHER INFORMATION CONTACT: These plats will be available for inspection in the New Mexico State Office, Bureau of Land Management, and P.O. Box 27115, Santa Fe, New Mexico 87502-0115. Copies may be obtained from this office upon payment of $1.10 per sheet.

Dated: June 3, 2008.
Robert A. Casias,
Branch Chief Cadastral Surveyor, New Mexico.

[FR Doc. E8-13126 Filed 6-10-08; 8:45 am]

BILLING CODE 4310-FM-P